DEPARTMENT OF THE INTERIOR

Fish and Wildlife Service

[FWS-R4-R-2011-N053; 40136-1265-0000-S3]

St. Johns National Wildlife Refuge, FL; Draft Comprehensive Conservation Plan and Environmental Assessment

AGENCY: Fish and Wildlife Service, Interior.

ACTION: Notice of availability; request for comments.

SUMMARY: We, the Fish and Wildlife Service (Service), announce the availability of a draft comprehensive conservation plan and environmental assessment (Draft CCP/EA) for St. Johns National Wildlife Refuge (NWR) in Brevard County, Florida, for public review and comment. In this Draft CCP/EA, we describe the alternative we propose to use to manage this refuge for the 15 years following approval of the final CCP.

DATES: To ensure consideration, we must receive your written comments by August 8, 2011.

ADDRESSES: You may obtain a copy of the Draft CCP/EA by contacting Mr. Bill Miller, via U.S. mail at Merritt Island NWR Complex, P.O. Box 2683, Titusville, FL 32781, or via e-mail at William_G_Miller@fws.gov, or St. Johns CCP@fws.gov. Alternatively, you may download the document from our Internet Site at http://www.fws.gov/southeast/planning/ under “Draft Documents.” Summit comments on the Draft CCP/EA to the above postal address or e-mail addresses.

FOR FURTHER INFORMATION CONTACT: Mr. Bill Miller, at 561/715-0023 (telephone) or William_G_Miller@fws.gov (e-mail).

SUPPLEMENTARY INFORMATION:

Introduction

With this notice, we continue the CCP process for St. Johns NWR. We started the process through a Federal Register notice on December 14, 2009 (74 FR 66147). Please see that notice for more about the refuge and its purposes.

The St. Johns NWR is a unit of and administered through the Merritt Island NWR Complex.

St. Johns NWR was established in August 1971, to provide protection for threatened and endangered species and native diversity. Its primary purpose relates to threatened and endangered species and applies to all lands and waters managed as part of St. Johns NWR. The refuge contains two units that combine for approximately 6,422 acres. The southern or “Bee Line” unit occurs approximately 1 mile west of the city of Port St. John, Florida, while the northern or “State Road 50” unit occurs approximately 5 miles to the north, roughly 5 miles west of the city of Titusville, Florida. St. Johns NWR is closed to public use, but for those permitted through the special use permit process.

Background

The CCP Process

The National Wildlife Refuge System Administration Act of 1966 (16 U.S.C. 668dd-668ee) (Administration Act), as amended by the National Wildlife Refuge System Improvement Act of 1997, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Significant issues addressed in this Draft CCP/EA include: (1) Managing for wildlife diversity and prioritizing habitat management for secretive marsh birds; (2) expanding the approved acquisition boundary by 459 acres to enable us to enter into land acquisition agreements with willing sellers for lands that connect the refuge to a regional network of publicly managed lands; (3) protecting our interests from illicit uses; (4) opening select areas to unsupervised visitation; (5) evaluating the effectiveness of cattle grazing as a habitat management tool; (6) evaluating the compatibility of feral hog and white-tailed deer hunting as a visitor service; and (7) adding permanent staff.

CCP Alternatives, Including Our Proposed Alternative

We developed three alternatives for managing the refuge and chose “Alternative C” as the proposed alternative. A full description of each alternative is in the Draft CCP/EA. We summarize each alternative below.

Alternative A: Current Management (No Action)

Alternative A continues management activities and programs at present levels. We would continue the prescribed fire program to maintain open habitat conditions that would generally favor many native birds, including black and king rails, wading birds, and eastern meadowlarks. Secretive marsh bird surveys would continue to be conducted although infrequently. The lack of firm data on the mix of wintering birds using the refuge would continue. There would be no active management of wood storks or State-listed wading birds. We would continue to reduce the impacts from off-site runoff and facilitate infiltration; however, there would be no active management of water quality. Still, we would continue to protect emergent wetlands that buffer and filter the St. Johns River. We would not actively collect data related to climate change trends and their effects on the refuge.

Periodic detection and control of invasive plant species would continue. We would also continue to monitor for the presence and abundance of invasive species such as the feral hog, continuing to use a hog trapper and staff to control these animals occasionally and opportunistically.

Boundaries would not change under this alternative, and the lack of a functional management boundary would continue to be problematic. In particular, effective resource protection would continue to be hindered by the fragmented ownership, and the unmarked, unfenced boundaries of the checkerboard area of the Bee Line unit. In addition, there would be no active management of rights-of-way.

Under this alternative, we would continue to provide law enforcement support through the Merritt Island NWR. We would continue to collaborate with Florida Fish and Wildlife Conservation Commission (FWC), Florida Department of Environmental Protection (FDEP), and local law enforcement agencies in trying to protect resources from illegal activities, such as trespass and unauthorized use of all-terrain and off-road vehicles. We would continue to provide protection for cultural and archaeological resources.

The refuge would remain closed to the public, with certain limited exceptions, such as an occasional guided tour. The refuge would continue to be managed part time by Merritt Island NWR Complex staff as a collateral duty. We would continue to count on three or four volunteers from the community to conduct occasional special guided educational tours and to control exotic plants under staff supervision. We would maintain one tool and equipment storage shed, which houses a small cache of fire-fighting equipment. We would maintain perimeter fencing, gates, culverts, and 10-12 miles of unpaved access roads.

Alternative B: Management for Rare, Threatened, and Endangered Species

In general, Alternative B represents an expansion of the management efforts of Alternative A, emphasizing on rare, threatened, and endangered species. Management would primarily occur through prescribed burning and hydrologic restoration. Utilizing ecological indicators, we would promote a fire return interval to maintain early successional habitat on behalf of these species and would shift prescribed burning events to summer/early fall. In addition, we would determine the size, seasonality, and frequency of prescribed fires to benefit rail species.

We would develop a monitoring program for secretive marsh birds and adapt management based on species response. We would work to restore the hydrologic setting to benefit marsh birds and determine the role of the refuge in regional and national species conservation plans, particularly with regard to rare, threatened, and endangered species. Management of wood storks and State-listed wading birds, including the snowy egret, tri-colored heron, and little blue heron, would expand. We would conduct nesting surveys and opportunistically remove fill and dike features of the State Road 50 unit borrow ponds to provide additional artificial islands.

On behalf of the northern crested caracara, Alternative B would maintain open habitat with a minimum of woody vegetation, including wax myrtle. We would also evaluate the use of mowing, cattle grazing, and/or other forms of vegetation maintenance to benefit this species on the Bee Line unit.

We would stay abreast of Cape Sable seaside sparrow reintroduction and introduction discussions within the State. We would work with our South Florida Ecological Services Field Office and the FWC to evaluate the suitability of the refuge as a potential introductory site to support recovery of this species.

An exotic plant database would be maintained, and exotic plants would be controlled at maintenance levels. We would increase control of invasive/feral animals and would use permittees and partners for the feral hog control effort.

We would proactively address climate change, particularly with regard to its potential to impact rare species.

In pursuit of more functional refuge boundaries, we would cooperate with partners to consolidate and secure ownership in the checkerboard area of the Bee Line unit to create functional refuge management areas. We would consider fee-title acquisitions, land swaps, management agreements, conservation easements, and other measures based on a willing-seller approach to protect these sites. We would also work with Brevard County to abandon the county's historic rights-of way. We would pursue the implementation of a minor expansion proposal, approximately 459 areas, of the approved acquisition boundary to connect lands and develop corridors proximal to the State Route 50 unit for dispersal and movement of wildlife. We would increase our law enforcement staff and coordinate with governmental partners and landowners to increase the number of patrols and level of enforcement to deter and prevent unpermitted activities. With regard to cultural, historical, and archaeological resources, we would continue to provide protection for these resources.

Under Alternative B, visitor services and public use would be similar to current management direction, with certain minor expansions. In general, the refuge would remain closed to the public, except for occasional guided tours arranged in advance. Outreach would be expanded and focused on threatened, endangered, and rare species. We would work with partners to develop a curriculum-based environmental education program.

Administrative capacity would expand somewhat. We would share a law enforcement officer and maintenance worker with Merritt Island NWR Complex. We would hire a full-time biological technician/biologist. We would utilize volunteers for increased environmental education and interpretation activities, surveys of threatened and endangered species, boundary identification, expanded exotics control, and refuge cleanups. We would continue to maintain our current facilities and add one to two vehicles and equipment for exotic plant control activities.

Alternative C: Enhanced Wildlife and Habitat Diversity (Proposed Alternative)

This alternative would focus on enhancing all native wildlife and habitat diversity. With respect to marsh birds, this alternative would expand on Alternative B. We would determine our role in regional and national species conservation plans. Based on ecological indicators targeting marsh bird and habitat responses, we would utilize prescribed fire to maintain and restore early successional habitats. Concerning the suite of resident, wintering, and summering birds on the refuge, Alternative C would represent an expansion of Alternative A. Through prescribed burning, we would promote an ecologically based fire return interval to maintain early successional ecological stages of all fire-maintained habitats. In addition, the hydrologic setting would be restored to as near as possible pre-drainage conditions to benefit wildlife.

Management of wood storks and State-listed wading birds would expand, as under Alternative B. On behalf of the northern crested caracara, we would maintain open habitat with a minimum of woody vegetation. We would also evaluate the use of mowing, grazing, and/or other forms of vegetation control to help maintain open habitat for this species at the Bee Line unit, while minimizing impacts to secretive marsh birds. Under this alternative, we would stay abreast of Cape Sable seaside sparrow reintroduction and introduction through discussions with the State. Management of hydrology, including groundwater, surface water, and water quality, would expand. We would coordinate with the St. Johns River Water Management District (SJRWMD) to develop a better understanding of the hydrology of the refuge. To help fill in the information gaps, and using experts, we would develop a hydrologic study to understand the relationships of water quality, water quantity, and timing of flows within and across the refuge.

Invasive plant control would be identical to that proposed under Alternative B. Invasive animal control would expand further on the efforts proposed under Alternative B. We would use permittees and partners for feral hog control and possibly public hunts if, after evaluation, hunting is determined to be an effective tool to remove or control this species.

We would focus habitat management on maintaining and supporting a wide array of native wildlife. Overall, the relative percentages and composition of the major habitat types would not change; the aim would be to increase their quality rather than quantity. We would strive to maintain emergent marsh and open waters for a diversity of mammals, such as the white-tailed deer and round-tailed muskrat.

With regard to climate change, we would partner with SJRWMD in adaptive management efforts to manage habitats, ecosystems, and wildlife affected by climate change. We would investigate opportunities to participate in regional climate change initiatives to better understand the role climate change may have on resources and would adapt management based on discovery of climate change related impacts.

We would work with partners to consolidate and secure ownership in the checkerboard area of the Bee Line unit to create functional management areas. We would consider fee-title acquisitions, land swaps, management agreements, conservation easements, and other measures based on a willing-seller approach to protect these sites. We would work with Brevard County to vacate or abandon its historic rights-of-way and would add access to accommodate public use. Additionally, this alternative identifies a minor expansion proposal (approximately 459 acres) of the approved acquisition boundary to connect lands and develop natural area corridors to the State Road 50 unit. Under Alternative C, we would increase Service law enforcement staff and coordinate with stakeholders to increase the number of patrols and level of enforcement to deter and prevent destructive illegal activities. With regard to cultural, historical, and archaeological resources, we would continue to provide protection for these resources. In addition, we would complete and begin to implement a Cultural Resources Management Plan over the 15-year life of the CCP.

One of the centerpieces of Alternative C includes expanding visitor services and public use. To expand opportunities for interpretation, we would work with partners to evaluate a range of access alternatives for St. Johns NWR. Working with Brevard County, we would seek to develop facilities such as a trailhead and kiosk from Fay Lake Park into the refuge's Bee Line unit, and would consider developing an interpretive trail and kiosk on the State Route 50 unit. We would also explore, based on potential and varied acquisition opportunities from willing sellers through and subject to the proposed minor expansion proposal, opportunities to provide public access to the State Route 50 unit from Brevard County's Fox Lake Park Sanctuary through the Fox Lake tract. We would expand environmental education efforts by working with partners to develop curriculum-based environmental education programs related to wildlife and climate change. We would also work with local schools to conduct on-site environmental education. We would open up the refuge to wildlife observation and photography, and would provide facilities to enhance the visitor experience (e.g., marked foot trails, kiosks at trailheads, and a safe parking area). We would establish foot traffic on existing dikes and roads and would evaluate potential connectivity to regional trail networks. The refuge and any future trails would remain subject to closure for administrative purposes. Commercial photography and tours/guides would be available on a case-by-case basis. Access for uses determined to be appropriate and compatible would be walking, hiking, and bicycling. We would work with partners, including the FWC, to evaluate the potential for primitive weapon hunting (e.g., bow and muzzle-loader) and a youth hunt. Species to be considered for hunts would include white-tailed deer and feral hogs.

In all respects, administration would expand under this alternative. When fully implemented, this alternative would provide for shared positions with Merritt Island NWR Complex, including a law enforcement officer, maintenance worker, and a refuge ranger. A full-time biological technician position is also proposed, for a total of 2.5 new positions. The volunteer program would also expand as we would utilize volunteers for increased environmental education and interpretation activities and programs, trail maintenance, outreach, wildlife surveys, expanded exotic control, and refuge cleanups. This alternative would provide for more facilities and equipment. We would consider developing kiosks, trails, and associated parking to provide safe and secure access from existing county parks to refuge lands. We would also add one to two vehicles and equipment for exotic plant control activities.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: April 5, 2011.
Mark J. Musaus,
Acting Regional Director.

[FR Doc. 2011-17014 Filed 7-6-11; 8:45 am]

BILLING CODE 4310-55-P